DEPARTMENT OF LABOR

Employment and Training Administration

[TA-W-64,033]

Eaton Corporation, Clutch Division; Auburn, IN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on September 25, 2008, applicable to workers of Eaton Corporation, Clutch Division, Auburn, Indiana. The notice was published in the Federal Register on October 8, 2008 (73 FR 58981).

At the request of the State agency, the Department reviewed the certification for workers of the subject firm. The workers are engaged in the production of truck clutches.

Findings show that there was a previous certification, TA-W-60,256, issued on December 18, 2006, for the workers of the Auburn, Indiana, location of the subject firm. That certification expires December 18, 2008. To avoid an overlap in worker group coverage for the workers of the Auburn, Indiana, location, the certification is being amended to change the impact date from September 10, 2007, to December 19, 2008.

Accordingly, the Department is amending the certification to properly reflect this matter.

The intent of the Department's certification is to include all workers of Eaton Corporation, Clutch Division, who were adversely affected by a shift in production of truck clutches to Mexico.

The amended notice applicable to TA-W-64,033 is hereby issued as follows:

All workers of Eaton Corporation, Clutch Division, Auburn, Indiana, who become totally or partially separated from employment on or after December 19, 2008, through September 25, 2010, are eligible to apply for adjustment assistance under Section 223 of the Trade Act of 1974, and are also eligible to apply for alternative trade adjustment assistance under Section 246 of the Trade Act of 1974.

Signed at Washington, DC, this 17th day of October 2008.
Richard Church,
Certifying Officer, Division of Trade Adjustment Assistance.

[FR Doc. E8-26052 Filed 10-31-08; 8:45 am]

BILLING CODE 4510-FN-P